DEPARTMENT OF LABOR

Employment and Training Administration

[TA-W-85,373]

GE Industrial Solutions Service Engineering Organization Atlanta, Georgia: Notice of Revised Determination After Statutory Reconsideration

As required by the Trade Adjustment Assistance Reauthorization Act of 2015 (TAARA 2015), which was enacted as Title IV of the Trade Preferences Extension Act of 2015, Public Law 114-27, section 405(a)(1)(A), the investigation into this petition was reopened for a reconsideration investigation to apply the requirements for worker group eligibility under chapter 2 of title II of the Trade Act of 1974, as amended by the TAARA 2015, to the facts of this petition (statutory reconsideration).

The initial investigation, initiated June 12, 2014, resulted in a negative determination, issued on September 30, 2014, that was based on worker separations not being attributable to increased imports or a shift in production. A complaint was filed with the United States Court of International Trade (USCIT) on November 28, 2014 (No. 14-00314); however, a joint dismissal of the case was filed on July 20, 2015. During the Remand investigation, the worker group was clarified to be GE Industrial Solutions Service Engineering Organization, Atlanta, Georgia (hereafter referred to as “GE Industrial Solutions Service Engineering Organization”). The workers' firm is engaged in activities related to the supply of designing, testing, documenting, and engineering services.

“Firm includes an individual proprietorship, partnership, joint venture, association, corporation (including a development corporation), business trust, cooperative, trustee in bankruptcy, and receiver under decree of any court.” 29 CFR 90.2

Based on information reviewed during the reconsideration investigation, the Department of Labor determines that a shift in services to a foreign country contributed importantly to the worker group separations at GE Industrial Solutions Service Engineering Organization, Atlanta, Georgia.

Section 222(a)(1) has been met because a significant number or proportion of the workers in GE Industrial Solutions Service Engineering Organization, Atlanta, Georgia have become totally or partially separated, or are threatened to become totally or partially separated.

Section 222(a)(2)(B) has been met because the workers' firm has shifted to a foreign country a portion of the supply of services like or directly competitive with the services supplied by the subject workers which contributed importantly to worker group separations at GE Industrial Solutions Service Engineering Organization, Atlanta, Georgia.

Conclusion

After careful review, I determine that workers of GE Industrial Solutions Service Engineering Organization, Atlanta, Georgia, who are engaged in activities related to the internal supply of designing, testing, documenting, and engineering services, meet the worker group certification criteria under Section 222(a) of the Act, 19 U.S.C. 2272(a). In accordance with Section 223 of the Act, 19 U.S.C. 2273, I make the following certification:

All workers of GE Industrial Solutions Service Engineering Organization, Atlanta, Georgia, who became totally or partially separated from employment on or after June 11, 2013, through two years from the date of certification, and all workers in the group threatened with total or partial separation from employment on the date of certification through two years from the date of certification, are eligible to apply for adjustment assistance under Chapter 2 of Title II of the Trade Act of 1974, as amended.

Signed in Washington, DC, this 20th day of May, 2016.
Del Min Amy Chen,
Certifying Officer, Office of Trade Adjustment Assistance.

[FR Doc. 2016-18410 Filed 8-3-16; 8:45 am]

BILLING CODE P